FEDERAL COMMUNICATIONS COMMISSION

47 CFR Part 73

[DA 03-2910; MB Docket No. 03-208, RM-10793]

Radio Broadcasting Services; Arthur and Hazelton, ND

AGENCY: Federal Communications Commission.

ACTION: Proposed rule.

SUMMARY: The Audio Division requests comments on a petition filed by Vision Media Incorporated proposing the substitution of Channel 280C1 for Channel 280C3 at Arthur, North Dakota, and the modification of Station KVMI(FM)'s license accordingly. To accommodate the upgrade, we also proposed the substitution of Channel 277C for vacant Channel 280C at Hazelton, North Dakota. Channel 280C1 can be substituted at Arthur in compliance with the Commission's minimum distance separation requirements with a site restriction of 48.5 kilometers (30.1 miles) northwest at petitioner's requested site. The coordinates for Channel 280C1 at Arthur are 47-19-35 North Latitude and 97-46-15 West Longitude. Additionally, Channel 277C can be substituted at Hazelton with a site restriction of 51.6 kilometers (32.0 miles) west at petitioner's requested modified site. The coordinates for Channel 277C at Hazelton are 46-22-06 North Latitude and 100-55-49 West Longitude. Since both Arthur and Hazelton are located within 320 kilometers (200 miles) of the U.S-Canadian border, concurrence of the Canadian government has been requested. In accordance with Section 1.420(g)(3) of the Commission's Rules, we will not accept competing expressions of interest for the use of Channel 280C1 at Arthur, North Dakota.

DATES: Comments must be filed on or before November 24, 2003, reply comments on or before December 9, 2003.

ADDRESSES: Federal Communications Commission, Washington, DC 20554. In addition to filing comments with the FCC, interested parties should serve the petitioner, or its counsel or consultant, as follows: Michael W. Richards, Esq., Fletcher, Heald & Hildreth, P.L.C., 1700 North 17th Street, 11th Floor, Arlington, Virginia 22209.

FOR FURTHER INFORMATION CONTACT: Sharon P. McDonald, Media Bureau, (202) 418-2180.

SUPPLEMENTARY INFORMATION: This is a synopsis of the Commission's Notice of Proposed Rule Making, MB Docket No. 03-208, adopted October 1, 2003, and released October 3, 2003. The full text of this Commission decision is available for inspection and copying during normal business hours in the FCC Reference Information Center (Room CY-A257), 445 12th Street, SW., Washington, DC. The complete text of this decision may also be purchased from the Commission's copy contractor, Qualex, International, Portals II, 445 12th Street, SW., Room CY-B402, Washington, DC 20054, telephone 202-863-2893, facsimile 202-863-2898, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under North Dakota, is amended by removing Channel 280A ¹ and adding Channel 280C1 at Arthur; and by removing Channel 280C and adding Channel 277C at Hazelton.

¹ The Audio Division granted a license application (BLH-20030303ACH) for Station KVMI on May 21, 2003 to specify operation on Channel 280C3 in lieu of Channel 280A.

Federal Communications Commission.
John A. Karousos,
Assistant Chief, Audio Division, Media Bureau.

[FR Doc. 03-26499 Filed 10-20-03; 8:45 am]

BILLING CODE 6712-01-P